FEDERAL COMMUNICATIONS COMMISSION

47 CFR Parts 15 and 18

[ET Docket No. 98-80; FCC 02-157]

Conducted Emission Limits

AGENCY: Federal Communications Commission.

ACTION: Final rule; correction.

SUMMARY: On July 10, 2002 (67 FR 45666), the Commission published final rules in the Federal Register, which amended the rules for Conducted Emission Limits. This document contains a correction to the effective date of that rule which was inadvertently published incorrectly.

DATE: Effective August 9, 2002.

FOR FURTHER INFORMATION CONTACT: Anh Wride, Office of Engineering and Technology, (202) 418-0577, TTY (202) 418-2989, e-mail: awride@fcc.gov.

SUPPLEMENTARY INFORMATION: The Federal Communications Commission published a document amending parts 15 and 18 in the Federal Register of July 10, 2002, (67 FR 45666). This document corrects the Federal Register as it appeared. In FR Doc. 02-17264 published on July 10, 2002, (67 FR 45666), the Commission is correcting the “DATES: Effective August 9, 2002 of the Commission's rules to reflect the correct DATES: Effective September 9, 2002.”

In rule FR Doc. 02-17264 published on July 10, 2002 (67 FR 45666) make the following correction:

On page 45666, in the third column correct Dates: Effective August 9, 2002 to read as DATES: Effective September 9, 2002.

Federal Communications Commission.
Marlene H. Dortch,
Secretary.

[FR Doc. 02-18626 Filed 7-23-02; 8:45 am]

BILLING CODE 6712-01-P